DEPARTMENT OF COMMERCE

Foreign-Trade Zones Board

[B-42-2017]

Foreign-Trade Zone (FTZ) 122—Corpus Christi, Texas; Notification of Proposed Production Activity; voestalpine Texas, LLC; (Hot Briquetted Iron and By-Products); Portland, Texas

The Port of Corpus Christi Authority, grantee of FTZ 122, submitted a notification of proposed production activity to the FTZ Board on behalf of voestalpine Texas, LLC (voestalpine), located in Portland, Texas. The notification conforming to the requirements of the regulations of the FTZ Board (15 CFR 400.22) was received on June 12, 2017.

voestalpine already has authority to produce hot briquetted iron (HBI) and related by-products using certain foreign-status materials within Subzone 122T. The current request would add a finished product and foreign-status materials to the scope of authority. Pursuant to 15 CFR 400.14(b), additional FTZ authority would be limited to the specific foreign-status materials and specific finished product described in the submitted notification (as described below) and subsequently authorized by the FTZ Board.

Production under FTZ procedures could exempt voestalpine from customs duty payments on the foreign-status materials used in export production. On its domestic sales, voestalpine would be able to choose the duty rates during customs entry procedures that apply to HBI fines (duty-free) for the foreign-status materials noted below and in the existing scope of authority. Customs duties also could possibly be deferred or reduced on foreign-status production equipment.

The materials/components sourced from abroad include direct reduction iron remet and HBI fines (duty-free).

Public comment is invited from interested parties. Submissions shall be addressed to the FTZ Board's Executive Secretary at the address below. The closing period for their receipt is August 14, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: June 27, 2017.
Elizabeth Whiteman,
Acting Executive Secretary.

[FR Doc. 2017-13943 Filed 6-30-17; 8:45 am]

BILLING CODE 3510-DS-P